DEPARTMENT OF ENERGY

Federal Energy Regulatory Commission

[Docket No. OR13-1-000]

Tesoro High Plains Pipeline Company, LLC; Notice of Request for Temporary Waiver of Tariff Filing and Reporting Requirements

On October 9, 2012 Tesoro High Plains Pipeline Company, LLC (THPP) filed a Request for a Temporary Waiver of Tariff Filing and Reporting Requirements. THPP requests that the Commission grant a temporary waiver from the tariff filing and reporting requirements of sections 6 and 20 of the Interstate Commerce Act for the sections of its pipeline connecting the Saddle Butte Pipeline, LLC and Arrow Midstream Holdings, LLC gathering systems to the Johnson's Corner destination point on the THPP mainline. The sections of pipeline for which the temporary exemption is requested will be owned by THPP, and all crude oil shipped on these portions of the THPP pipeline system will be owned entirely by THPP's affiliates.

Any person desiring to intervene or to protest in this proceedings must file in accordance with Rules 211 and 214 of the Commission's Rules of Practice and Procedure (18 CFR 385.211 and 385.214) on or before 5:00 p.m. Eastern time on the specified comment date. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov or call (866) 208-3676 (toll free). For TTY, call (202) 502-8659.

Comment Date: 5:00 p.m. Eastern time on Monday, October 22, 2012.

Dated: October 11, 2012.
Kimberly D. Bose,
Secretary.

[FR Doc. 2012-25517 Filed 10-16-12; 8:45 am]

BILLING CODE 6717-01-P